DEPARTMENT OF THE TREASURY

Office of Foreign Assets Control

Sanctions Actions Pursuant to Executive Order 13382

AGENCY: Office of Foreign Assets Control, Department of the Treasury.

ACTION: Notice.

SUMMARY: The Treasury Department's Office of Foreign Assets Control (OFAC) is publishing the names of eight individuals and three entities whose property and interests in property are blocked pursuant to Executive Order (E.O.) 13382, “Blocking Property of Weapons of Mass Destruction Proliferators and Their Supporters.”

DATES: OFAC's actions described in this notice are effective January 17, 2016.

FOR FURTHER INFORMATION CONTACT: The Department of the Treasury's Office of Foreign Assets Control: Assistant Director for Licensing, tel.: 202/622-2480, Assistant Director for Regulatory Affairs, tel.: 202/622-4855, Assistant Director for Sanctions Compliance & Evaluation, tel.: 202/622-2490, or the Department of the Treasury's Office of the Chief Counsel (Foreign Assets Control), Office of the General Counsel, tel.: 202/622-2410.

SUPPLEMENTARY INFORMATION:

Electronic and Facsimile Availability

The Specially Designated Nationals and Blocked Persons List and additional information concerning OFAC sanctions programs are available on OFAC's Web site (www.treasury.gov/ofac). Certain general information pertaining to OFAC's sanctions programs is also available via facsimile through a 24-hour fax-on-demand service, tel.: 202/622-0077.

Notice of OFAC Actions

On January 17, 2016, OFAC blocked the property and interests in property of the following eight individuals and three entities pursuant to E.O. 13382, “Blocking Property of Weapons of Mass Destruction Proliferators and Their Supporters”:

Individuals

1. MUSAVI, Sayyed Javad, Iran; DOB 23 Aug 1972; Additional Sanctions Information—Subject to Secondary Sanctions (individual) [NPWMD] [IFSR] (Linked To: SHAHID HEMMAT INDUSTRIAL GROUP).

2. FARAHI, Sayyad Medhi (a.k.a. FARAJZADEH, Seyyed Hadi), Iran; DOB 30 Sep 1960; Additional Sanctions Information—Subject to Secondary Sanctions; Passport G9321488 (Iran) expires 10 Oct 2016 (individual) [NPWMD] [IFSR] (Linked To: MINISTRY OF DEFENSE FOR ARMED FORCES LOGISTICS).

3. HASHEMI, Seyed Mohammad (a.k.a. HASHEMI, Sayyed Mohammad; a.k.a. HASHEMI, Seyyed Mohammad), Iran; DOB 16 May 1965; citizen Iran; Additional Sanctions Information—Subject to Secondary Sanctions (individual) [NPWMD] [IFSR] (Linked To: MINISTRY OF DEFENSE FOR ARMED FORCES LOGISTICS).

4. NOOSHIN, Seyed Mirahmad, Iran; DOB 11 Jan 1966; Additional Sanctions Information—Subject to Secondary Sanctions; Passport G9311208 (Iran) (individual) [NPWMD] [IFSR] (Linked To: SHAHID HEMMAT INDUSTRIAL GROUP).

5. CHEN, Mingfu; DOB 30 Apr 1980; POB Anhui, China; citizen China; Additional Sanctions Information—Subject to Secondary Sanctions; Passport G22168109 expires 26 Apr 2017; Identification Number 341181198004300019 (China) (individual) [NPWMD] [IFSR] (Linked To: NAVID COMPOSITE MATERIAL COMPANY).

6. FARGHADANI, Rahimreza (a.k.a. FARGHADANI, Rahim Reza); DOB 16 Aug 1960; alt. DOB 17 Aug 1960; citizen Iran; Additional Sanctions Information—Subject to Secondary Sanctions; Passport 5671711 (Iran) (individual) [NPWMD] [IFSR].

7. POURNAGHSHBAND, Hossein (a.k.a. POUR NAGHSH BAND, Hussain Reza; a.k.a. POUR NAGHSHBAND, Hossein; a.k.a. POUR NAGHSHBAND, Hossein Reza); DOB 23 Oct 1965; nationality Iran; Additional Sanctions Information—Subject to Secondary Sanctions; Passport E1910843 (Iran) (individual) [NPWMD] [IFSR] (Linked To: NAVID COMPOSITE MATERIAL COMPANY).

8. KETABACHI, Mehrdada Akhlaghi (a.k.a. KETABCHI, Merhdada Akhlaghi), c/o AIO, Langare Street, Nobonyad Square, Tehran, Iran; c/o SBIG, Tehran, Iran; DOB 10 Sep 1958; nationality Iran; Additional Sanctions Information—Subject to Secondary Sanctions; Passport A0030940 (Iran) (individual) [NPWMD] [IFSR].

Entities

9. ANHUI LAND GROUP CO., LIMITED, Shop T18, 3/F, Cathay Pacific 88 Malls, No. 125, Wanchai Road, Wanchai, Hong Kong; Additional Sanctions Information—Subject to Secondary Sanctions; Registration ID 1774300 (Hong Kong) [NPWMD] [IFSR].

10. CANDID GENERAL TRADING LLC (a.k.a. CANDID TRADING LLC), 3rd Floor, Office No. 306, Al Dana Centre, Al Maktoum Street Deira, Dubai, United Arab Emirates; Additional Sanctions Information—Subject to Secondary Sanctions; P.O. Box 41967, Dubai, United Arab Emirates [NPWMD] [IFSR].

11. MABROOKA TRADING CO L.L.C. (a.k.a. MABROOKA TRADING COMPANY), 3rd Floor, Office No. 306, Al Dana Centre, Al Maktoum Street, Next to Metropolitan Palace Hotel, Al Riqqa, Al Muraqqabat, Deira, Dubai, United Arab Emirates; Additional Sanctions Information—Subject to Secondary Sanctions; P.O. Box 33634, Dubai, United Arab Emirates; Registration ID 500871 [NPWMD] [IFSR] (Linked To: NAVID COMPOSITE MATERIAL COMPANY).

Dated: January 20, 2016.
John E. Smith,
Acting Director, Office of Foreign Assets Control.

[FR Doc. 2016-01352 Filed 1-25-16; 8:45 am]

BILLING CODE 4810-AL-P